DEPARTMENT OF COMMERCE

International Trade Administration

[A-570-900]

Diamond Sawblades and Parts Thereof From the People's Republic of China: Extension of Time Limits for the Preliminary Results of the New Shipper Review

AGENCY: Import Administration, International Trade Administration, Department of Commerce.

DATES: Effective Date: December 2, 2010.

FOR FURTHER INFORMATION CONTACT: Alan Ray, AD/CVD Operations, Office 9, Import Administration, International Trade Administration, U.S. Department of Commerce, 14th Street and Constitution Avenue, NW., Washington, DC 20230; telephone: (202) 482-5403.

Background

The antidumping duty order on diamond sawblades from the People's Republic of China (“PRC”) was published in the Federal Register on November 4, 2009. See Diamond Sawblades and Parts Thereof From the People's Republic of China and the Republic of Korea: Antidumping Duty Orders, 74 FR 57145 (November 4, 2009) (“Antidumping Duty Order”). On April 30, 2010, pursuant to section 751(a)(2)(B)(i) of the Tariff Act of 1930, as amended (“Act”), the Department of Commerce (“Department”) received a new shipper review request from Pujiang Talent Diamond Tools Co., Ltd. (“PTDT”). PTDT's request was properly made on April 30, 2010, as May is the semi-annual anniversary of the Antidumping Duty Order. On June 28, 2010, the Department issued a notice of initiation of a new shipper review of diamond sawblades and parts thereof from the PRC covering the period of January 24, 2009, through April 31, 2010. See Diamond Sawblades and Parts Thereof from the People's Republic of China: Initiation of Antidumping Duty New Shipper Review, 75 FR 36632 (June 28, 2010). The preliminary results are currently due no later than December 14, 2010.

Statutory Time Limits

Section 751(a)(2)(B)(iv) of the Act provides that the Department will issue the preliminary results of a new shipper review of an antidumping duty order within 180 days after the day on which the review was initiated. See also 19 CFR 351.214(i)(1). The Act further provides that the Department may extend that 180-day period to 300 days if it determines that the case is extraordinarily complicated. See also 19 CFR 351.214(i)(2).

Extension of Time Limit of Preliminary Results

The Department determines that this new shipper review involves extraordinarily complicated methodological issues such as the examination of importer information and the evaluation of the bona fide nature of PTDT's sales. In addition, the Department needs additional time to evaluate the affiliations amongst PTDT and other entities. Therefore, in accordance with section 751(a)(2)(B)(iv) of the Act and 19 CFR 351.214(i)(2), the Department is extending the time limit for these preliminary results by 120 days, until no later than April 13, 2011. The final results continue to be due 90 days after the publication of the preliminary results.

We are issuing and publishing this notice in accordance with sections 751(a)(2)(B)(iv) and 777(i) of the Act.

Dated: November 26, 2010.
Barbara E. Tillman,
Acting Deputy Assistant Secretary for Antidumping and Countervailing Duty Operations.

[FR Doc. 2010-30291 Filed 12-1-10; 8:45 am]

BILLING CODE 3510-DS-P